DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Poison Help General Population Survey—(NEW)

The “Poison Help General Population Survey” is a 10-minute telephone survey designed to assess the campaign's effects among 2,000 households in the United States. The survey will be conducted with an adult household member and will address topics related to the types of individuals or organizations they would contact for information, advice, and treatment related to a poisoning. Survey results will be used to guide future communication, education and outreach efforts.

The annual estimate of burden is as follows:

Instrument | Number of respondents | Responses per respondent | Total responses | Hours per response | Total burden hours
Survey Respondents | 2000 | 1 | 2000 | .167 | 334
Screened households | 2353 | 1 | 2353 | .0167 | 39
Total |  |  | 4353 |  | 373

E-mail comments to paperwork@hrsa.gov or mail the HRSA Reports Clearance Officer, Room 10-33, Parklawn Building, 5600 Fishers Lane, Rockville, MD 20857. Written comments should be received within 60 days of this notice.

Dated: April 21, 2011.
Reva Harris,
Acting Director, Division of Policy and Information Coordination.

[FR Doc. 2011-10148 Filed 4-26-11; 8:45 am]

BILLING CODE 4165-15-P